ENVIRONMENTAL PROTECTION AGENCY

[FRL-6915-6]

Carrier Air Conditioning Company Superfund Site; Notice of Proposed Settlement

AGENCY: Environmental Protection Agency.

ACTION: Notice of proposed settlement.

SUMMARY: The United States Environmental Protection Agency is proposing to enter into a settlement with the Carrier Corporation pursuant to 122(h) of the Comprehensive Environmental Response, Compensation, and Liability Act of 1980, as amended, regarding the Carrier Air Conditioning Company Superfund Site located in Collierville, Shelby County, Tennessee. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4 (WMD-CPSB), Sam Nunn Atlanta Federal Center 61 Forsyth Street, SW., Atlanta, Georgia 30303, (404) 562-8887.

Written comments may be submitted to Ms. Batchelor within thirty (30) calendar days of the date of this publication.

Dated: November 20, 2000.
Anita L. Davis,
Acting Chief, CERCLA Program Services Branch, Waste Management Division.

[FR Doc. 00-31618 Filed 12-11-00; 8:45 am]

BILLING CODE 6560-50-U